LEGAL SERVICES CORPORATION

Sunshine Act Meeting

DATE AND TIME: The Legal Services Corporation's Institutional Advancement Committee will meet telephonically on December 10, 2013. The meeting will commence at 4:00 p.m., EST, and will continue until the conclusion of the Committee's agenda.

LOCATION: John N. Erlenborn Conference Room, Legal Services Corporation Headquarters, 3333 K Street NW., Washington, DC 20007.

PUBLIC OBSERVATION: Members of the public who are unable to attend in person but wish to listen to the public proceedings may do so by following the telephone call-in directions provided below.

CALL-IN DIRECTIONS FOR OPEN SESSION: • Call toll-free number: 1-866-451-4981;

• When prompted, enter the following numeric pass code: 5907707348

• When connected to the call, please immediately “MUTE” your telephone.

Members of the public are asked to keep their telephones muted to eliminate background noises. To avoid disrupting the meeting, please refrain from placing the call on hold if doing so will trigger recorded music or other sound. From time to time, the presiding Chair may solicit comments from the public.

STATUS OF MEETING: Open, except that, upon a vote of the Board of Directors, the meeting may be closed to the public to consider and act on recommendation of new prospective funders to the Board of Directors, and to discuss prospective funders for LSC's 40th anniversary celebration and development activities and prospective members for LSC's 40th Campaign Cabinet and Honorary Committee.

A verbatim transcript will be made of the closed session meeting of the Institutional Advancement Committee. The transcript of any portion of the closed session falling within the relevant provision of the Government in the Sunshine Act, 5 U.S.C. 552b(c)(6) will not be available for public inspection. A copy of the General Counsel's Certification that, in his opinion, the closing is authorized by law will be available upon request.

MATTERS TO BE CONSIDERED:

Open

1. Approval of Agenda

2. Approval of minutes of the Committee's open session meeting of October 1, 2013

3. Approval of minutes of the Committee's open session meeting of October 20, 2013

4. Consider and act on Pledge Agreement Form

5. Consider and act on proposed changes to LSC's case statement for fundraising

6. Presentation of LSC's online giving portal

• Wendy Rhein, Chief Development Officer

7. Public Comment

8. Consider and act on other business

Closed

9. Approval of minutes of the Committee's closed session meeting of October 1, 2013

10. Approval of minutes of the Committee's closed session meeting of October 20, 2013

11. Consider and act on recommendation of new prospective funders to the Board of Directors

12. Discussion of prospective funders for LSC's 40th anniversary celebration and development activities

13. Discussion of prospective members for LSC's 40th Campaign Cabinet and Honorary Committee

14. Consider and act on adjournment of meeting

CONTACT PERSON FOR INFORMATION: Katherine Ward, Executive Assistant to the Vice President & General Counsel, at (202) 295-1500.

Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals needing other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: December 2, 2013.
Atitaya C. Rok,
Staff Attorney.

[FR Doc. 2013-29198 Filed 12-3-13; 4:15 pm]

BILLING CODE 7050-01-P